DEPARTMENT OF THE INTERIOR

Bureau of Land Management

[16X LLAK980600.L1820000.XX0000.LXSIARAC0000]

Notice of Public Meetings, BLM Alaska Resource Advisory Council and Associated Subcommittee

AGENCY: Alaska State Office, Bureau of Land Management, Interior.

ACTION: Notice of public meetings.

SUMMARY: In accordance with the Federal Land Policy and Management Act of 1976 as amended (FLPMA) and the Federal Advisory Committee Act of 1972 (FACA), the Bureau of Land Management (BLM) Alaska Resource Advisory Council (RAC) and associated placer mining subcommittee will meet as indicated below.

DATES: The RAC will meet October 24-25, 2016, beginning at 1 p.m. on the first day and at 8 a.m. on the second day. The RAC placer mining subcommittee will meet October 24 from 9 a.m.-12 p.m. Both meetings will be held at the BLM Alaska State Office, Denali conference room, located on the fourth floor of the federal courthouse building, at 222 W. 7th Avenue, Anchorage, Alaska. The council will accept comments from the public on October 24 from 4:30 to 5:30 p.m.

FOR FURTHER INFORMATION CONTACT: June Lowery, RAC Coordinator, BLM Alaska State Office, 222 W. 7th Avenue #13, Anchorage, AK 99513; jlowery@blm.gov; 907-271-3130. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member council advises the Secretary of the Interior, through the BLM, on a variety of planning and management issues associated with public land management in Alaska. At this meeting, the council will hear the RAC placer mining subcommittee's report and associated recommendations from their July field trip to Chicken, Alaska. The council will also receive updates on current planning efforts and an update on the Regional Mitigation Strategy for the National Petroleum Reserve in Alaska. An agenda will be posted to the BLM Alaska RAC Web site (www.blm.gov/ak/rac) by October 14, 2016.

All meetings are open to the public. Depending upon the number of people wishing to comment, time for individual oral comments may be limited. Please be prepared to submit written comments. Before including your address, phone number, email address, or other personal identifying information in your comment, you should be aware that your entire comment—including your personal identifying information—may be made publicly available at any time. While you can ask us in your comment to withhold your personal identifying information from public review, we cannot guarantee that we will be able to do so. Individuals who plan to attend and need special assistance, such as sign language interpretation or other reasonable accommodations, should contact the BLM RAC Coordinator listed above.

Dated: September 14, 2016.
Bud C. Cribley,
State Director.

[FR Doc. 2016-22836 Filed 9-21-16; 8:45 am]

BILLING CODE 4310-JA-P